DEPARTMENT OF COMMERCE

Foreign-Trade Zones Board

[Order No. 1572]

Grant of Authority for Subzone Status; Kravet, Inc.

(Textile Distribution and Sampling) Anderson, SC

Pursuant to its authority under the Foreign-Trade Zones Act, of June 18, 1934, as amended (19 U.S.C. 81a-81u), the Foreign-Trade Zones Board (the Board) adopts the following Order:

Whereas, the Foreign-Trade Zones Act provides for “* * *the establishment* * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the South Carolina State Ports Authority, grantee of Foreign-Trade Zone 38, has made application to the Board for authority to establish a special-purpose subzone at the textile distribution and sampling facility of Kravet, Inc., located in Anderson, South Carolina (FTZ Docket 10-2007, filed 3-6-07);

Whereas, notice inviting public comment was given in the Federal Register (72 FR 13081, 3/20/2007); and,

Whereas, the Board adopts the findings and recommendations of the examiner's report, and finds that the requirements of the FTZ Act and the Board's regulations would be satisfied, and that approval of the application would be in the public interest if subject to the restrictions and limitations listed below;

Now, therefore, the Board hereby grants authority for subzone status for activity related to the distribution and sampling of textiles at the facility of Kravet, Inc., located in Anderson, South Carolina (Subzone 38G), as described in the application and Federal Register notice, subject to the FTZ Act and the Board's regulations, including section 400.28, and further subject to the following restrictions and limitations:

1. Privileged foreign status (19 CFR 146.41) shall be elected on all foreign status merchandise;

2. No activity under FTZ procedures shall be permitted that would result in a shift in HTSUS classification.

Signed at Washington, DC, this 10th day of September 2008.
David M. Spooner,
Assistant Secretary of Commerce for Import Administration, Alternate Chairman, Foreign-Trade Zones Board.

ATTEST:

Andrew McGilvray,

Executive Secretary.

[FR Doc. E8-21882 Filed 9-17-08; 8:45 am]

BILLING CODE 3510-DS-P